DEPARTMENT OF HEALTH AND HUMAN SERVICES

[Document Identifier: OS-0990-new; 30-Day Notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: Evaluation of the effectiveness of an educational interactive video on research integrity—OMB No. 0990-New-Office of Research Integrity.

Abstract: The Office of Research Integrity (ORI) proposes to conduct a nine-month evaluation study of the effectiveness of an educational interactive video on research integrity.

The study seeks to answer two questions: (a) Objectively, is the Educational Interactive Video for Research Integrity (EIVRI) effective in achieving learning outcomes? (b) Subjectively, do learners and teachers perceive the video simulation as effective in helping them learn and teach research integrity? To answer the first question, a pretest-posttest control group experimental design is used to assess the effectiveness of individual learning of research integrity principles and concepts through the use of the video simulation. The video simulation instruction will be incorporated into an existing syllabus for a research integrity or research ethics course for the treatment group. The control group will use the existing syllabus with no video simulation in class. Participants will be graduate students enrolled in these ethics courses to learn and apply the responsible conduct of research at educational institutions. Participants will fill out a demographics form to discern if they have had prior training experience in research integrity. Those who have prior training experience and those who do not have prior training experience will be randomly assigned to either the treatment group or the control group. The random assignment will be done by picking the last digit of each individual's social security number for the two groups. The video simulation will be approximately four-hour long total. All students will take a pre-test quiz when they fill out the demographics form. Once the treatment is completed, all students will be asked to take a post-test quiz and answer a post-viewing questionnaire to capture their perceptions of the video simulation.

To answer the second question, the study will collect qualitative data from semi-structured interviews as well as focus groups. The semi-structured interviews will be conducted twice with faculty who teach the courses in the first part of the study, in person or on the phone, before and after he/she uses the video simulation. Participants for the focus groups will be selected from the students who participate in the first part of the study. The focus group will last one hour.

Estimated Annualized Burden Table
Forms | Type of respondent | Number of respondents | Number of responses per respondent | Average burden (in hours) per response | Total burden hours
Educational Interactive Video | Individuals/Households | 3000 | 1 | 14/60 | 700

Keith A. Tucker,
Office of the Secretary, Paperwork Reduction Act Reports Clearance Officer.

[FR Doc. 2012-632 Filed 1-13-12; 8:45 am]

BILLING CODE 4150-05-P